DEPARTMENT OF THE INTERIOR

National Park Service

[NPS-WASO-NRNHL-0811-8178; 2280-665]

National Register of Historic Places; Notification of Pending Nominations and Related Actions

Nominations for the following properties being considered for listing or related actions in the National Register were received by the National Park Service before August 6, 2011. Pursuant to § 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th Floor, Washington DC 20005; or by fax, 202-371-6447. Written or faxed comments should be submitted by September 15, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CALIFORNIA

Los Angeles County

Freeman, Rose Graham and James Allen, House, (Residential Architecture of Pasadena: Influence of the Arts and Crafts Movement MPS) 1330 Hillcrest Ave., Pasadena, 11000654

COLORADO

Adams County

Robidoux, M.J. Lavina, House, 1615 Galena St., Aurora, 11000655

INDIANA

Boone County

Maplelawn Farmstead, (Eagle Township and Pike Township, Indiana MPS) 9575 Whitestown Rd., Zionsville, 11000656

Lake County

Polk Street Concrete Cottage Historic District, (Concrete in Steel City: The Edison Concept Houses of Gary Indiana MPS) 604-614 Polk St., Gary, 11000657

Marion County

Broad Ripple Firehouse—Indianapolis Fire Department Station 32, 6330 Guilford Ave., Indianapolis, 11000658

Ripley County

Central Batesville Historic District, Roughly bounded by Catherine, Vine & Boehringer Sts. & Eastern Ave., Batesville, 11000659

Vanderburgh County

Black, Glenn A., House, 8215 Pollack Ave., Evansville, 11000660

IOWA

Dubuque County

Holy Ghost Catholic Historic District, (Dubuque, Iowa MPS) 2887-2921 Central Ave., Dubuque, 11000661

Scott County

Putnam—Parker Block, 100-130 W 2nd. St., Davenport, 11000662

KENTUCKY

Taylor County

Buchanan, Thomas Gant, House, 5025 New Columbia Rd., Campbellsville, 11000680

Caldwell, James, House, 105 Colonial Dr., Campbellsville, 11000681

Robinson—Gaines House, 4639 New Columbia Rd., Campbellsville, 11000679

MASSACHUSETTS

Worcester County

Berlin Town Hall, 12 Woodward Ave., Berlin, 11000663

Bullard House, 4 Woodward Ave., Berlin, 11000664

Searles Hill Cemetery, Searles Hill Rd., Phillipston, 11000665

MICHIGAN

Huron County

Port Austin Reef Light, (Light Stations of the United States MPS) Port Austin Reef, 2.5 mi. N. of Port Austin (Port aux Barques Township), Port Austin, 11000666

Oakland County

Taliaferro, Thomas W. and Margaret, House, 1115 Eton Cross, Bloomfield Hills, 11000668

St. Clair County

Marine City Water Works, 229 S. Main St., Marine City, 11000667

MISSOURI

Jackson County

Southeast Third Street and Southeast Corder Avenue Ranch House Historic District, (Lee's Summit, Missouri MPS) Roughly the S. side of SE. 3rd. E. of Independence Ave., along SE. Corder Ave N. of SE. 4th & 5 E. lots S. of 4th., Lee's Summit, 11000669

OHIO

Cuyahoga County

Moreland Theater Building, 11810-11824 Buckeye Rd., Cleveland, 11000670

Lawrence County

Vesuvius Furnace—Stone Bridge (Boundary Decrease), Vesuvius Recreation Area off OH 93, Ironton, 11000671

Lucas County

Libbey, Edward Drummond, High School, 1250 Western Ave., Toledo, 11000672

PUERTO RICO

Orocovis Municipality

Cueva La Espiral, (Prehistoric Rock Art of Puerto Rico MPS) Address Restricted, Orocovis, 11000673

RHODE ISLAND

Newport County

Shoreby Hill Historic District, Roughly bounded by Whittier Rd., Prudence Ln., Emerson Rd., Conanicus Ave., Knowles Ct., Coronado St. & Longfellow Rd., Jamestown, 11000674

Providence County

Phillipsdale Historic District, Roughly bounded by Seekonk R., Roger Williams & Ruth Aves., East Providence, 11000675

SOUTH CAROLINA

Oconee County

Retreat Rosenwald School, (Rosenwald School Building Program in South Carolina, 1917-1932) 150 Pleasant Hill Cir., Westminster, 11000676

WISCONSIN

Milwaukee County

APPOMATTOX (shipwreck), (Great Lakes Shipwreck Sites of Wisconsin MPS), 150 yds. off Atwater Beach, Shorewood, 11000677

Milwaukee Breakwater Light, (Light Stations of the United States MPS) S. end of N. Breakwater, .7 mi. E. of mouth of Milwaukee R., Milwaukee, 11000678

[FR Doc. 2011-22239 Filed 8-30-11; 8:45 am]

BILLING CODE 4312-51-P